SURFACE TRANSPORTATION BOARD

[Docket No. EP 558 (Sub-No. 27)]

Railroad Cost of Capital—2023

AGENCY: Surface Transportation Board.

ACTION: Notice.

SUMMARY: The Board is instituting a proceeding to determine the railroad industry's cost of capital for 2023. The decision solicits comments on the following issues: the railroads' 2023 current cost of debt capital, the railroads' 2023 current cost of preferred equity capital (if any), the railroads' 2023 cost of common equity capital, and the 2023 capital structure mix of the railroad industry on a market value basis.

DATES: Notices of intent to participate are due by April 2, 2024. Statements of the railroads are due by April 23, 2024. Statements of other interested persons are due by May 14, 2024. Rebuttal statements by the railroads are due by June 4, 2024.

ADDRESSES: Comments may be filed with the Board via e-filing on the Board's website.

FOR FURTHER INFORMATION CONTACT: Pedro Ramirez at (202) 245-0333. If you require an accommodation under the Americans with Disabilities Act, please call (202) 245-0245.

SUPPLEMENTARY INFORMATION: The decision in this proceeding is posted at www.stb.gov.

Authority: 49 U.S.C. 10704(a).

Decided: February 13, 2024.
By the Board, Board Members Fuchs, Hedlund, Oberman, Primus, and Schultz.
Stefan Rice,
Clearance Clerk.

[FR Doc. 2024-03374 Filed 2-16-24; 8:45 am]

BILLING CODE 4915-01-P